INTERNATIONAL TRADE COMMISSION

[Investigation No. 337-TA-1382]

Certain Electronic Computing Devices and Components Thereof; Notice of a Commission Determination To Review a Final Initial Determination Finding No Violation of Section 337; Request for Written Submissions on the Issues Under Review and on Remedy, the Public Interest, and Bonding

AGENCY: U.S. International Trade Commission.

ACTION: Notice.

SUMMARY: Notice is hereby given that the U.S. International Trade Commission (“Commission”) has determined to review in its entirety a final initial determination (“ID”) of the presiding administrative law judge (“ALJ”), finding no violation of section 337. The Commission requests written submissions from the parties on the issues under review and submissions from the parties, interested government agencies, and other interested persons on the issues of remedy, the public interest, and bonding, under the schedule set forth below.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation based on a complaint filed on behalf of Lenovo (United States) Inc. of Morrisville, North Carolina (“Lenovo”). 88 FR 88110 (Dec. 20, 2023). The complaint, as amended and supplemented, alleges violations of section 337 of the Tariff Act of 1930, as amended, 19 U.S.C. 1337, in the importation into the United States, the sale for importation, or the sale within the United States after importation of certain electronic computing devices and components thereof by reason of infringement of claims 1, 3, 5, 7, 9, 11, 13, and 15 of U.S. Patent No. 7,760,189 (“the '189 patent”); claims 1-21 of U.S. Patent No. 7,792,066 (“the '066 patent”); claims 1-11 of U.S. Patent No. 8,687,354 (“the '354 patent”); and claims 1-18 of U.S. Patent No. 10,952,203 (“the '203 patent”). Id. The complaint further alleges that a domestic industry exists. Id. The Commission's notice of investigation named as respondents ASUSTeK Computer Inc., of Taipei, Taiwan and ASUS Computer International of Fremont, CA (“ASUS”). Id. at 88111. The Office of Unfair Import Investigations is not participating in the investigation. Id.

The ALJ held a claim construction hearing on May 16, 2024, and issued a claim construction order on July 15, 2024. Order No. 32 (July 15, 2024).

The following claims were terminated from the investigation at Lenovo's request: all asserted claims of the '189 patent; claims 6, 8-15, and 19-21 of the '066 patent; claims 2, 3, 8 and 10 of the '354 patent; and claims 1-7, 9-16, and 18 of the '203 patent.

The ALJ conducted an evidentiary hearing from September 16, 2024, through September 20, 2024. Lenovo and ASUS filed initial post-hearing briefs on October 4, 2024, and filed post-hearing reply briefs on October 18, 2024.

On February 7, 2025, the ALJ issued her final ID on violation of section 337. Lenovo and ASUS filed petitions for review of that ID on February 21, 2025, and filed replies to each others' petitions on March 3, 2025.

On April 9, 2025, the Commission extended the date by which it must determine whether to review the final ID to May 1, 2025.

Having reviewed the record of the investigation, including the final ID, the parties' submissions to the ALJ, and the parties' petitions and responses thereto, the Commission has determined to review the ID in its entirety.

In connection with its review, the Commission requests responses to the following questions. The parties are requested to brief their positions with reference to the applicable law and the existing evidentiary record.

1. Lenovo's petition for review of the ID states that “the UL BW field of a trigger frame references the frequencies that were allocated in the beacon frame for EDCA transmissions.” Lenovo Pet. at 12. How, if at all, is referencing a set of frequencies different from indicating them as required by claims 1 and 17 of the '203 patent?

2. The ID found that the enhanced distributed channel access (EDCA) protocol is a contention-based protocol. ID at 67. Explain whether, in the context of EDCA, a set of resource blocks for a data transmission can be assigned to a device before that device has won a contention for resources.

3. Explain the temporal relationship between when a device receives an orthogonal frequency division multiple access (OFDMA) trigger frame and when that device will contend for EDCA resources.

4. Concerning claims 1 and 17 of the '203 patent, the ID found that multiple resource assignment indications could be received and that the subsequent transmitting steps could therefore correspond to different resource assignment indications. ID at 38-39. Identify any evidence intrinsic to the '203 patent that supports that construction. Include in your answer any portion of the specification that teaches an embodiment that receives multiple resource assignment indications before performing the transmitting steps. Also include any portion of the specification foreclosing the use of multiple resource assignment indications before performing the transmitting steps.

5. Finjan LLC v. SonicWall, Inc., 84 F.4th 963 (Fed. Cir. 2023), discusses the interplay between the rule that the definite articles “a” and “an” are typically not limited to singular meanings and method claims that require the same component to satisfy multiple claim limitations. 84 F.4th at 973-975. Explain whether the ID's finding that two different resource assignment indications could be used for each of the transmitting steps is consistent with Finjan and the precedents discussed therein. Include in your explanation whether Finjan supports or detracts from the ID's invalidity findings for the '203 patent.

6. During prosecution of the '066 patent, after the examiner provided applicants with the Neves et al. (US PGPUB 2002/0032855 Al) reference, the examiner clarified: “Therefore, some sort of handshaking is taking place; however, the handshaking is not occurring during the claimed `receiving of a predetermined frame.' In other words, a pre-authentication/handshaking procedure occurs prior to the transmission of the predetermined frame from the access point.” JX-6 at 667-668. In response, the applicants distinguished the invention by stating that “the wireless receiver of new claim 27 does not present any frame to the access point to prove authorization or otherwise `handshake' with the access point. Instead, each of the beacon and predetermined frames and magic packets are received by the receiver without the wireless receiver transmitting a wireless frame to the wireless access point to handshake with the wireless access point.” JX-6 at 702 (emphasis in original). Explain why this statement does or does not amount to a clear and unmistakable disclaimer of claim scope covering a wireless receiver that handshakes with a wireless access point prior to a main power supply being “not on.”

7. Claim 1 of the '354 patent includes the limitation: “wherein the second wing of the inhibitor stopper engages the second notch to prevent the second hinge member from rotating when the first hinge member rotates from zero degrees to 180 degrees.” Identify all embodiments in the specification that disclose this limitation. Also identify any portions of the prosecution history that discuss the meaning of this limitation.

8. Identify any portion of the evidence intrinsic to the '354 patent that specifically addresses whether the limitation quoted above in question 11 requires the rotation of the second hinge member to be prevented in both clockwise and anti-clockwise directions or instead prevented in one direction or the other.

9. Figure 3C shows an exemplary embodiment of the invention of the '354 patent in which the housings of the invention are in an intermediate state between 0 degrees (closed) and 180 degrees (open). Do you agree that the lower hinge member depicted in Figure 3C is prevented from rotating anti-clockwise by the lower wing of the inhibitor stopper contacting the notch in the lower hinge member and the right side of the upper wing of the inhibitor stopper contacting the surface of the upper hinge member? Do you agree that the lower hinge member in Figure 3C is not prevented from clockwise rotation by the wings of the inhibitor stopper because the inhibitor stopper is free to rotate anti-clockwise as the lower hinge member rotates clockwise? If you disagree with either statement, explain why.

10. When opening a notebook PC, such as the one described in the '354 patent at 4:17-55, from 0 to 180 degrees, would the second hinge member move in both directions if the inhibitor stopper were absent?

11. The ID cited testimony for the proposition that “the wings and notches [of the accused product] only engage when closing the device, not when opening the device.” ID at 165 (citing Tr. (Singhose) at 315:17-316:9). Do you agree that the wings and notches of the accused product engage each other when closing the accused device but not when opening the accused device? Cite the evidence that supports your position.

The parties are invited to brief only the discrete issues requested above. The parties are not to brief other issues on review, which are adequately presented in the parties' existing filings.

In connection with the final disposition of this investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order and cease and desist orders would have on: (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: The parties to the investigation are requested to file written submissions on the issues identified in this notice. Parties to the investigation, interested government agencies, and any other interested parties are encouraged to file written submissions on the issues of remedy, the public interest, and bonding. Such submissions should address the recommended determination by the ALJ on remedy and bonding.

In its initial submission, Complainant is also requested to identify the remedy sought and to submit proposed remedial orders for the Commission's consideration. Complainant is further requested to state the dates that the Asserted Patents expire, to provide the HTSUS subheadings under which the accused products are imported, and to supply the identification information for all known importers of the products at issue in this investigation. All initial written submissions, from the parties and/or third parties/interested government agencies, and proposed remedial orders from the parties must be filed no later than close of business on May 15, 2025. All reply submissions must be filed no later than the close of business on May 22, 2025. Opening submissions from the parties are limited to 100 pages. Reply submissions from the parties are limited to 75 pages. All submission from third parties and/or interested government agencies are limited to 10 pages. No further submissions on any of these issues will be permitted unless otherwise ordered by the Commission.

Persons filing written submissions must file the original document electronically on or before the deadlines stated above pursuant to 19 CFR 210.4(f). Submissions should refer to the investigation number (Inv. No. 337-TA-1382) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission vote for this determination took place on May 1, 2025.

The authority for the Commission's determination is contained in section 337 of the Tariff Act of 1930, as amended (19 U.S.C. 1337), and in Part 210 of the Commission's Rules of Practice and Procedure (19 CFR part 210).

By order of the Commission.
Issued: May 1, 2025.
Sharon Bellamy,
Supervisory Hearings and Information Officer.

[FR Doc. 2025-07917 Filed 5-6-25; 8:45 am]

BILLING CODE 7020-02-P